DEPARTMENT OF DEFENSE

Department of the Army, Corps of Engineers

Notice of Intent To Prepare a General Reevaluation Report/Supplemental Environmental Impact Statement for the Ala Wai Canal Flood Risk Management Study, Honolulu, HI

AGENCY: Department of the Army, U.S. Army Corps of Engineers, DoD.

ACTION: Notice of Intent; extension of public comment period.

SUMMARY: The U.S. Army Corps of Engineers, Pittsburgh District, is extending the public comment period for the Notice of Intent (NOI) to Prepare a General Reevaluation Report/Supplemental Environmental Impact Statement for the Ala Wai Canal Flood Risk Management Study, Honolulu, HI. The NOI was published in the Federal Register on Wednesday, February 22, 2023. The public comment period for the NOI was originally scheduled to end on Friday, March 24, 2023. The U.S. Army Corps of Engineers is extending the public comment period by 45 days and will consider comments received through Monday, May 8, 2023.

DATES: The deadline for receipt of comments on the NOI published in the Federal Register on February 22, 2023 (88 FR 10880) is extended to May 8, 2023.

ADDRESSES: You may submit comments related to development of the General Reevaluation Report/Supplemental Environmental Impact Statement by any of the following methods:

• Website: https://www.honolulu.gov/alawai/contact.html.

• Email: alawai@honolulu.gov.

• Mail: U.S. Army Corps of Engineers, Honolulu District, 230 Otake St. (Attn: POH-PPC, Ala Wai), Fort Shafter, HI 96858-5440.

FOR FURTHER INFORMATION CONTACT: For further information about this project, please visit https://www.honolulu.gov/alawai. You may also contact Shawna Herleth-King at 312-846-5407 or by email at: shawna.s.herleth-king@usace.army.mil.

Kimberly A. Peeples,
Brigadier General, U.S. Army, Commander, Great Lakes and Ohio River Division.

[FR Doc. 2023-05981 Filed 3-22-23; 8:45 am]

BILLING CODE 3720-58-P